INTERNATIONAL TRADE COMMISSION

[Investigation Nos. 701-TA-780-782 and 731-TA-1767-1769 (Preliminary)

Van-Type Trailers and Subassemblies From Canada, China, and Mexico; Revised Schedule for the Subject Proceeding

AGENCY: United States International Trade Commission.

ACTION: Notice.

DATES: December 22, 2025.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective November 20, 2025, the Commission established a schedule for the conduct of the subject proceeding (90 FR 53388, November 25, 2025). As a result of the closure of the agency on Wednesday, December 24, 2025, and Friday, December 26, 2025, the Commission is revising its schedule as follows: the Commission will reach preliminary determinations by January 7, 2026, and the Commission's views will be transmitted to Commerce within five business days thereafter.

For further information concerning this proceeding, see the Commission's notice cited above and the Commission's Rules of Practice and Procedure, part 201, subparts A and B (19 CFR part 201), and part 207, subparts A and B (19 CFR part 207).

Authority: This proceeding is being conducted under authority of title VII of the Tariff Act of 1930; this notice is published pursuant to section 207.12 of the Commission's rules.

By order of the Commission.
Issued: December 23, 2025.
Lisa Barton,
Secretary to the Commission.

[FR Doc. 2025-24039 Filed 12-30-25; 8:45 am]

BILLING CODE 7020-02-P